DEPARTMENT OF ENERGY

Federal Energy Regulatory Commission

Notice of Transfer of License and Soliciting Comments, Motions To Intervene, and Protests

August 1, 2002.

Take notice that the following hydroelectric application has been filed with the Commission and is available for public inspection:

a. Application Type: Transfer of License.

b. Project No: 7000-017.

c. Date Filed: July 19, 2002.

d. Applicants: Newton Falls Holdings, LLC (transferor) and Orion Power New York GP II, Inc. (transferee).

e. Project Name and Location: The Newton Falls Project is on the East Branch of the Oswegatchie River near the Village of Newton Falls in St. Lawrence County, New York. The project does not occupy federal or tribal lands.

f. Filed Pursuant to: Federal Power Act, 16 U.S.C. 791(a)—825(r).

g. Applicant Contacts: For Transferor: Harold G. Slone, Manager, Newton Falls Holdings, LLC, 1930 West Wesley Road, NW., Atlanta, GA 30327, (770) 638-1172. For Transferee: William J. Madden, Jr., Winston & Strawn, 1400 L Street, NW, Washington, DC 20005-3502, (202) 371-5715.

h. FERC Contact: James Hunter, (202) 219-2839.

i. Deadline for filing motions to intervene, protests, and comments: August 30, 2002.

All documents (original and eight copies) should be filed with: Magalie R. Salas, Secretary, Federal Energy Regulatory Commission, 888 First Street, NE., Washington, DC 20426. Comments, protests and interventions may be filed electronically via the Internet in lieu of paper; see 18 CFR 385.2001(a)(1)(iii) and the instructions on the Commission's web site under the “e-Filing” link. The Commission strongly encourages electronic filngs. Please include the project number (P-7000-017) on any comments or motions filed.

j. Description of Proposal: The Applicants request approval of the transfer of the license for Project No. 7000 from the transferor to the transferee, in connection with the proposed sale of the project.

The transfer application was filed within five years of the expiration of the license for Project No. 7000, which is the subject of a pending relicense application in Project No. 7000-015. In Hydroelectric Relicensing Regulations Under the Federal Power Act (54 FR 23,756; FERC Stats. and Regs., Regs. Preambles 1986-1990 30,854 at p. 31,437), the Commission declined to forbid all license transfers during the last five years of an existing license, and instead indicated that it would scrutinize all such transfer requests to determine if the primary purpose of the transfer was to give the transferee an advantage in relicensing (id. at p. 31,438 n. 318).

k. This filing is available for review at the Commission or may be viewed on the Commission's web site at http://www.ferc.gov using the “RIMS” link, select “Docket #” and follow the instructions (call (202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, D.C. 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-19922 Filed 8-6-02; 8:45 am]

BILLING CODE 6717-01-P